DEPARTMENT OF ENERGY

Federal Energy Regulatory Commission

[Docket Numbers: RP24-582-000]

Combined Notice of Filings

Take notice that the Commission has received the following Natural Gas Pipeline Rate and Refund Report filings:

Filings Instituting Proceedings

Applicants: El Paso Natural Gas Company, L.L.C.

Description: 4(d) Rate Filing: Negotiated Rate Agreement Update (Conoco Apr 2024) to be effective 4/1/2024.

Filed Date: 3/27/24.

Accession Number: 20240327-5230.

Comment Date: 5 p.m. ET 4/8/24.

Docket Numbers: RP24-583-000.

Applicants: El Paso Natural Gas Company, L.L.C.

Description: 4(d) Rate Filing: Negotiated Rate Agreements Update (Hartree 614700 615843 610670 Apr 2024) to be effective 4/1/2024.

Filed Date: 3/27/24.

Accession Number: 20240327-5251.

Comment Date: 5 p.m. ET 4/8/24.

Docket Numbers: RP24-584-000.

Applicants: Panhandle Eastern Pipe Line Company, LP.

Description: Compliance filing: Flow Through of Penalty Revenues Report filed on 3-28-24 to be effective N/A.

Filed Date: 3/28/24.

Accession Number: 20240328-5007.

Comment Date: 5 p.m. ET 4/9/24.

Docket Numbers: RP24-585-000.

Applicants: Panhandle Eastern Pipe Line Company, LP.

Description: Compliance filing: Flow Through of Cash-Out Revenues filed on 3-28-24 to be effective 5/1/2024.

Filed Date: 3/28/24.

Accession Number: 20240328-5010.

Comment Date: 5 p.m. ET 4/9/24.

Docket Numbers: RP24-586-000.

Applicants: Enable Gas Transmission, LLC.

Description: Compliance filing: 2024 Annual IT Revenue Crediting Filing to be effective N/A.

Filed Date: 3/28/24.

Accession Number: 20240328-5016.

Comment Date: 5 p.m. ET 4/9/24.

Docket Numbers: RP24-587-000.

Applicants: Enable Gas Transmission, LLC.

Description: 4(d) Rate Filing: Fuel Tracker Filing—Effective May 1, 2024 to be effective 5/1/2024.

Filed Date: 3/28/24.

Accession Number: 20240328-5020.

Comment Date: 5 p.m. ET 4/9/24.

Docket Numbers: RP24-588-000.

Applicants: Enable Mississippi River Transmission, LLC.

Description: Compliance filing: 2024 Annual SCT Revenue Crediting Filing to be effective N/A.

Filed Date: 3/28/24.

Accession Number: 20240328-5023.

Comment Date: 5 p.m. ET 4/9/24.

Docket Numbers: RP24-589-000.

Applicants: ETC Tiger Pipeline, LLC.

Description: 4(d) Rate Filing: Negotiated Rate Filing—CIMA to be effective 4/1/2024.

Filed Date: 3/28/24.

Accession Number: 20240328-5081.

Comment Date: 5 p.m. ET 4/9/24.

Docket Numbers: RP24-590-000.

Applicants: Equitrans, L.P.

Description: 4(d) Rate Filing: OVCX Nonconforming and Negotiated Rate Agreements to be effective 5/1/2024.

Filed Date: 3/28/24.

Accession Number: 20240328-5091.

Comment Date: 5 p.m. ET 4/9/24.

Docket Numbers: RP24-591-000.

Applicants: Panhandle Eastern Pipe Line Company, LP.

Description: 4(d) Rate Filing: Negotiated Rates Filing—Citizens to be effective 4/1/2024.

Filed Date: 3/28/24.

Accession Number: 20240328-5094.

Comment Date: 5 p.m. ET 4/9/24.

Docket Numbers: RP24-592-000.

Applicants: Equitrans, L.P.

Description: 4(d) Rate Filing: Negotiated Rate Agreements—4-1-2024 to be effective 4/1/2024.

Filed Date: 3/28/24.

Accession Number: 20240328-5095.

Comment Date: 5 p.m. ET 4/9/24.

Docket Numbers: RP24-593-000.

Applicants: Kern River Gas Transmission Company.

Description: Annual Gas Compressor Fuel & LAUF Report of Kern River Gas Transmission Company.

Filed Date: 3/28/24.

Accession Number: 20240328-5127.

Comment Date: 5 p.m. ET 4/9/24.

Docket Numbers: RP24-594-000.

Applicants: WBI Energy Transmission, Inc.

Description: 4(d) Rate Filing: 2024 Non-Conforming Negotiated SA—Kentex IT-839 to be effective 4/1/2024.

Filed Date: 3/28/24.

Accession Number: 20240328-5125.

Comment Date: 5 p.m. ET 4/9/24.

Docket Numbers: RP24-595-000.

Applicants: Columbia Gas Transmission, LLC.

Description: 4(d) Rate Filing: OTRA Summer 2024 to be effective 5/1/2024.

Filed Date: 3/28/24.

Accession Number: 20240328-5132.

Comment Date: 5 p.m. ET 4/9/24.

Docket Numbers: RP24-596-000.

Applicants: Southwest Gas Storage Company.

Description: 4(d) Rate Filing: Baseline Original Volume No. 1-A Filing to be effective 4/1/2024.

Filed Date: 3/28/24.

Accession Number: 20240328-5144.

Comment Date: 5 p.m. ET 4/9/24.

Docket Numbers: RP24-597-000.

Applicants: Southwest Gas Storage Company.

Description: 4(d) Rate Filing: Add GT&C Section 20—Non-Conforming Agreements to be effective 4/1/2024.

Filed Date: 3/28/24.

Accession Number: 20240328-5147.

Comment Date: 5 p.m. ET 4/9/24.

Docket Numbers: RP24-598-000.

Applicants: El Paso Natural Gas Company, L.L.C.

Description: 4(d) Rate Filing: Negotiated Rate Agreements Filing (TMV_EcoEnergy Apr 24) to be effective 4/1/2024.

Filed Date: 3/28/24.

Accession Number: 20240328-5152.

Comment Date: 5 p.m. ET 4/9/24.

Docket Numbers: RP24-599-000.

Applicants: Gulf Run Transmission, LLC.

Description: 4(d) Rate Filing: Amendment No. 2—NRA with TGC to be effective 4/1/2024.

Filed Date: 3/28/24.

Accession Number: 20240328-5153.

Comment Date: 5 p.m. ET 4/9/24.

Docket Numbers: RP24-600-000.

Applicants: Hardy Storage Company, LLC.

Description: 4(d) Rate Filing: RAM 2024 to be effective 5/1/2024.

Filed Date: 3/28/24.

Accession Number: 20240328-5160.

Comment Date: 5 p.m. ET 4/9/24.

Docket Numbers: RP24-601-000.

Applicants: Transcontinental Gas Pipe Line Company, LLC.

Description: 4(d) Rate Filing: Negotiated Rates—FTP—LLOG Permt Rls to KUSA to be effective 4/1/2024.

Filed Date: 3/28/24.

Accession Number: 20240328-5161.

Comment Date: 5 p.m. ET 4/9/24.

Docket Numbers: RP24-602-000.

Applicants: Colorado Interstate Gas Company, L.L.C.

Description: 4(d) Rate Filing: Non-Conforming Agreement Update (Anadarko 33666000) to be effective 5/1/2024.

Filed Date: 3/28/24.

Accession Number: 20240328-5171.

Comment Date: 5 p.m. ET 4/9/24.

Docket Numbers: RP24-603-000.

Applicants: Northern Border Pipeline Company.

Description: 4(d) Rate Filing: Electric Compressor Surcharge 2024 to be effective 5/1/2024.

Filed Date: 3/28/24.

Accession Number: 20240328-5173.

Comment Date: 5 p.m. ET 4/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 28, 2024.
Debbie-Anne A. Reese,
Acting Secretary.

[FR Doc. 2024-07046 Filed 4-2-24; 8:45 am]

BILLING CODE 6717-01-P